NATIONAL FOUNDATION ON THE ARTS AND THE HUMANITIES

Institute of Museum and Library Services

Submission for OMB Review, Comment Request, Proposed Collection: State Library Administrative Agency (SLAA) Survey FY 2022-FY 2024

AGENCY: Institute of Museum and Library Services; National Foundation on the Arts and the Humanities.

ACTION: Submission for OMB review, request for comments, collection of information.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes a new three-year clearance of the IMLS-administered State Library Administrative Agency (SLAA) Survey for FY 2022—FY 2024. A copy of the proposed information collection request can be obtained by contacting the individual listed below in the FOR FURTHER INFORMATION CONTACT section of this notice.

DATES: Written comments must be submitted to the office listed in the ADDRESSES section below on or before August 21, 2022.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology (e.g., permitting electronic submission of responses).

FOR FURTHER INFORMATION CONTACT: Marisa Pelczar, Ph.D., Program Analyst, Office of Research and Evaluation, Institute of Museum and Library Services, 955 L'Enfant Plaza North SW, Suite 4000, Washington, DC 20024-2135. Dr. Pelczar can be reached by telephone at 202-653-4647 or by email at mpelczar@imls.gov. Persons who are deaf or hard of hearing (TTY users) may contact IMLS at 202-207-7858 via 711 for TTY-Based Telecommunications Relay Service.

SUPPLEMENTARY INFORMATION:

I. Background

The Institute of Museum and Library Services is the primary source of federal support for the nation's libraries and museums. We advance, support, and empower America's museums, libraries, and related organizations through grant making, research, and policy development. To learn more, visit www.imls.gov.

II. Current Actions

Pursuant to Public Law 107-279, the State Library Administrative Agency (SLAA) Survey collects biennial descriptive data on the universe of SLAAs in the United States. SLAAs are the official agencies of each state charged by state law with the extension and development of public library services throughout the state. (20 U.S.C. Chapter 72, § 9122). This survey aims to provide state and federal policymakers with information about SLAAs, including their governance, allied operations, developmental services to libraries and library systems, support of electronic information networks and resources, number and types of outlets, and direct services to the public. Because the FY 2022 collection will not begin until early 2023, we are carrying over the documentation and estimated burden associated with the FY 2020 data. This action is to request a new three-year clearance of the State Library Administrative Agency (SLAA) Survey for FY 2022-FY 2024.

The 60-day Notice was published in the Federal Register on May 27, 2022 (87 FR 32195). No comments were received.

Agency: Institute of Museum and Library Services.

Title: State Library Administrative Agencies Survey, FY 2022—2024.

OMB Number: 3137-0072.

Agency Number: 3137.

Respondents/Affected Public: Federal, State, and local governments, State Library Administrative Agencies.

Total Estimated Number of Respondents: 51.

Frequency of Response: Biennially.

Estimated Average Burden Hours per Respondent: 25.

Estimated Total Burden Hours: 1,285.

Total Annual Costs: $37,811.

Total Annual Federal Costs: $307,516.

Dated: July 18, 2022.
Suzanne Mbollo,
Grants Management Specialist, Institute of Museum and Library Services.

[FR Doc. 2022-15665 Filed 7-21-22; 8:45 am]

BILLING CODE 7036-01-P